DEPARTMENT OF DEFENSE

Defense Acquisition Regulations System

48 CFR Part 252

RIN 0750-AF57

Defense Federal Acquisition Regulation Supplement; New Designated Countries (DFARS Case 2006-D062)

AGENCY: Defense Acquisition Regulations System, Department of Defense (DoD).

ACTION: Final rule.

SUMMARY: DoD has adopted as final, without change, an interim rule amending the Defense Federal Acquisition Regulation Supplement (DFARS) to implement the Dominican Republic-Central America-United States Free Trade Agreement with respect to the Dominican Republic. The rule also includes Bulgaria and Romania on the list of countries covered by the World Trade Organization Government Procurement Agreement.

DATES: Effective Date: January 10, 2008.

FOR FURTHER INFORMATION CONTACT: Ms. Amy Williams, Defense Acquisition Regulations System, OUSD (AT&L) DPAP (DARS), IMD 3D139, 3062 Defense Pentagon, Washington, DC 20301-3062. Telephone 703-602-0328; facsimile 703-602-7887. Please cite DFARS Case 2006-D062.

SUPPLEMENTARY INFORMATION:

A. Background

DoD published an interim rule at 72 FR 14242 on March 27, 2007, to implement the Dominican Republic-Central America-United States Free Trade Agreement with respect to the Dominican Republic, and to add Bulgaria and Romania to the list of countries covered by the World Trade Organization Government Procurement Agreement.

DoD received no comments on the interim rule. Therefore, DoD has adopted the interim rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq. Although the rule opens up DoD procurement to the products of Bulgaria, the Dominican Republic, and Romania, there will be no significant impact on U.S. small businesses. DoD applies the trade agreements to only those non-defense items listed at DFARS 225.401-70, and procurements that are set aside for small businesses are exempt from application of the trade agreements.

C. Paperwork Reduction Act

This rule affects the certification and information collection requirements in the provisions at DFARS 252.225-7020 and 252.225-7035, currently approved under Office of Management and Budget Control Number 0704-0229. The impact, however, is negligible.

List of Subjects in 48 CFR Part 252

Government procurement.

Michele P. Peterson,
Editor, Defense Acquisition Regulations System.

Interim Rule Adopted as Final Without Change

Accordingly, the interim rule amending 48 CFR Part 252, which was published at 72 FR 14242 on March 27, 2007, is adopted as a final rule without change.

[FR Doc. E8-201 Filed 1-9-08; 8:45 am]

BILLING CODE 5001-08-P